DEPARTMENT OF TRANSPORTATION

National Highway Traffic Safety Administration

49 CFR Part 571

[Docket No. NHTSA-2020-0093]

RIN 2127-AL34

Federal Motor Vehicle Safety Standards; Child Restraint Systems, Incorporation by Reference

AGENCY: National Highway Traffic Safety Administration (NHTSA), Department of Transportation (DOT).

ACTION: Proposed rule; extension of comment period.

SUMMARY: NHTSA has received petitions asking the Agency to extend the comment period for a notice of proposed rulemaking (NPRM) to update Federal Motor Vehicle Safety Standard (FMVSS) No. 213, “Child restraint systems.” The NPRM proposed to incorporate a new test sled assembly to conduct compliance tests of child restraints and update a number of the test procedures of the standard. The comment period for the NPRM is scheduled to end on January 4, 2021. In response to petitions from the Juvenile Products Manufacturers Association and the Children's Hospital of Philadelphia, the Agency is extending the comment period by 90 days.

DATES: The comment period for the NPRM published on November 2, 2020, at 85 FR 69388, is extended to April 5, 2021.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE, Washington, DC 20590.

• Hand Delivery or Courier: West Building, Ground Floor, Room W12-140, 1200 New Jersey Avenue SE, between 9 a.m. and 5 p.m. Eastern Time, Monday through Friday, except Federal holidays. To be sure someone is there to help you, please call (202) 366-9332 before coming.

• Fax: 202-493-2251.

Regardless of how you submit your comments, please mention the docket number identified in the heading of this document.

Instructions: For detailed instructions on submitting comments and additional information on the rulemaking process, see the Public Participation heading of the SUPPLEMENTARY INFORMATION section of this document. Note that all comments received will be posted without change to http://www.regulations.gov, including any personal information provided.

Privacy Act: In accordance with 5 U.S.C. 553(c), DOT solicits comments from the public to better inform its decision-making process. DOT posts these comments, without edit, including any personal information the commenter provides, to www.regulations.gov, as described in the system of records notice (DOT/ALL-14 FDMS), which can be reviewed at www.transportation.gov/privacy. In order to facilitate comment tracking and response, the Agency encourages commenters to provide their name, or the name of their organization; however, submission of names is completely optional. Whether or not commenters identify themselves, all timely comments will be fully considered.

Docket: For access to the docket to read background documents or comments received, go to www.regulations.gov, or the street address listed above. To be sure someone is there to help you, please call (202) 366-9332 before coming. Follow the online instructions for accessing the dockets.

FOR FURTHER INFORMATION CONTACT: For technical issues, you may call Cristina Echemendia, Office of Crashworthiness Standards (telephone: 202-366-6345) (fax: 202-493-2990). For legal issues, you may call Deirdre Fujita, Office of Chief Counsel (telephone: 202-366-5246) (fax: 202-366-3820). Address: National Highway Traffic Safety Administration, U.S. Department of Transportation, 1200 New Jersey Avenue SE, West Building, Washington, DC 20590.

SUPPLEMENTARY INFORMATION: Section 31501(b) of the Moving Ahead for Progress in the 21st Century Act (MAP-21) requires the Secretary (NHTSA, by delegation) to commence and complete a rulemaking to amend the standard seat assembly in FMVSS No. 213 to better simulate a single representative motor vehicle rear seat. Pursuant to this mandate, on November 2, 2020, NHTSA published an NPRM proposing to amend FMVSS No. 213 by updating the standard seat assembly NHTSA uses to test child restraint systems (CRSs) for compliance with the standard's dynamic performance requirements. This NPRM proposed other amendments to modernize FMVSS No. 213, including ways to streamline the Agency's use of test dummies to assess restraint performance. NHTSA provided a 60-day comment period for the November 2, 2020 proposal, which closes on January 4, 2021.

Petitions

The Juvenile Products Manufacturers Association (JPMA), representing manufacturers of child restraint systems, submitted a petition on December 14, 2020 requesting a 120-day extension of the comment period for the November 2, 2020 NPRM.¹ JPMA provided several reasons for extending the comment period, including the need for social distancing and restrictions on businesses due to the public health emergency, the delay in public release of the drawing package for the standard seat assembly referenced by the NPRM, and the plans of some manufacturers to evaluate the proposed standard seat assembly by fabricating and evaluating the assembly for repeatability and reproducibility of results with the child restraint models they produce. JPMA stated that the original 60-day comment period does not adequately reflect the time necessary for manufacturers to evaluate the potential implications of the NPRM thoroughly and to provide constructive feedback to NHTSA. They argued that the proposed changes are extensive, and evaluation of the changes requires the fabrication of standard seat assemblies, which JPMA said would take 8 to 16 weeks for delivery to the testing facilities. JPMA stated that “[w]ithout the ability to inspect, fully evaluate and conduct comparative testing using this new bench, particularly in regard to its repeatability and reproducibility characteristics, our CRS manufacturing members are seriously limited in their ability to comment in the time period prescribed in the current NPRM.”

¹ JPMA requested that “the comment period be extended to 180 days from the date of publication” of the NPRM. NHTSA understands this request to include the 60 days provided by the NPRM, which means JPMA is requesting a 120-day extension.

On December 11, 2020, the Children's Hospital of Philadelphia (CHOP) submitted a petition to extend the comment period. CHOP did not specify the additional time sought but argued that remote teleworking and competing work due to the public health emergency has created challenges to gather all the individuals and relevant data to draft a response.

Agency Decision

In accordance with NHTSA's rulemaking procedures in 49 CFR part 553, subpart B, the Agency is granting the petitioners' requests to extend the comment period, but is extending it only for 90 days. NHTSA has determined that the petitioners have shown good cause for an extension, and that the extension is consistent with the public interest (49 CFR 553.19). Entities seeking to build the proposed standard seat assembly need time to procure materials and fabricate the assembly. NHTSA typically procures test seat assemblies in 6 to 8 weeks, but understand that it may take longer to obtain the seat assembly discussed in the NPRM due to possible customer demand, the time needed to procure the seat foam (8-12 weeks), and the business restrictions caused by the public health emergency. However, JPMA has not provided any basis explaining why it would take 8 to 16 weeks, almost twice the normal time, to procure the assembly. Without a reasoned explanation for the exceptionally long period, we conclude a 120-day extension is unwarranted and unduly delays the rulemaking.

In considering the petitions, NHTSA weighed the statutory interest in completing this rulemaking, the complexity and importance of the rulemaking, and the basis for the requests. The 3-dimensional drawings of the standard seat assembly were made public on November 16, 2020.² Based on an 8 to 12-week lead time for fabrication and delivery of the proposed seat assembly, NHTSA estimates entities could acquire the proposed seat assembly for evaluation between mid-January and early February 2021. A 90-day extension of the comment period provides sufficient time following procurement of the seat assembly for interested persons to test CRSs, analyze results, and prepare comments. Therefore, NHTSA partially grants the requests for extending the comment period by extending it for 90 days.

² JPMA incorrectly stated the publishing date was November 9, 2020.

The Agency supports efforts to develop useful technical information on the proposal and believes 90 additional days will achieve that result. Extending the comment period 90 days balances the need to provide more time to entities to assess the proposal with the need to incorporate a representative vehicle seat in FMVSS No. 213 compliance tests expeditiously. Incorporating a representative vehicle seat in FMVSS No. 213 will provide a more meaningful assessment of the performance of CRSs in vehicles on the road today.

Please note that even after the comment closing date has passed, interested persons are able to file comments in the docket, which NHTSA will consider to the extent practicable. 49 CFR 553.23. NHTSA may also continue to file relevant information in the docket as it becomes available. Accordingly, the Agency recommends that readers periodically check the docket for new material.

Authority: 49 U.S.C. 322, 30111, 30115, 30117, and 30166; delegation of authority at 49 CFR 1.95 and 49 CFR 501.8.

Issued in Washington, DC, under authority delegated in 49 CFR 1.95 and 501.8.
James C. Owens,
Deputy Administrator.

[FR Doc. 2020-29111 Filed 12-30-20; 11:15 am]

BILLING CODE 4910-59-P